DEPARTMENT OF LABOR

Employment and Training Administration

[TA-W-74,592]

Interstate Electronics Corp., a Subsidiary of L-3 Communications Including On-Site Leased Workers from Bently Global Resources, Manpower Professional Huntington Beach, Oxford Global Resources, PDS Technical Service, Superior Technical Resources, Systems Pros, Total Tech Services, Triple Crown Consulting, and Ingenium Technology, Inc., Anaheim, CA; Amended Certification Regarding Eligibility To Apply for Worker Adjustment Assistance

In accordance with Section 223 of the Trade Act of 1974, as amended (“Act”), 19 U.S.C. 2273, the Department of Labor issued a Certification of Eligibility to Apply for Worker Adjustment Assistance on October 1, 2010, applicable to workers of Interstate Electronics Corp., a subsidiary of L-3 Communications, including on-site leased workers from Bently Global Resources, Manpower Processional Huntington Beach, Oxford Global Resources, PDS Technical Service, Superior Technical Resources, Systems Pros, Total Tech Services, and Triple Crown Consulting, Anaheim, California. The workers provide engineering and software design and component assembly services. The notice was published in the Federal Register on October 15, 2010 (75 FR 63510).

At the request of a petitioner, the Department reviewed the certification for workers of the subject firm. The company reports that workers leased from Ingenium Technology, Inc. were employed on-site at the Anaheim, California location of Interstate Electronics Corp., a subsidiary of L-3 Communications. The Department has determined that these workers were sufficiently under the control of Interstate Electronics Corp., a subsidiary of L-3 Communications to be considered leased workers.

Based on these findings, the Department is amending this certification to include workers leased from Ingenium Technology, Inc. working on-site at the Anaheim, California location of Interstate Electronics Corp., a subsidiary of L-3 Communications.

The amended notice applicable to TA-W-74,592 is hereby issued as follows:

All workers of Interstate Electronics Corp., a subsidiary of L-3 Communications, including on-site leased workers from Bently Global Resources, Manpower Professional Huntington Beach, Oxford Global Resources, PDS Technical Service, Superior Technical Resources, Systems Pros, Total Tech Services, Triple Crown Consulting, and Ingenium Technology, Inc., Anaheim, California, who became totally or partially separated from employment on or after August 31, 2009, through October 1, 2012, and all workers in the group threatened with total or partial separation from employment on the date of certification through two years from the date of certification, are eligible to apply for adjustment assistance under Chapter 2 of Title II of the Trade Act of 1974, as amended.

Signed at Washington, DC, this 5th day of May 2011.
Michael W. Jaffe,
Certifying Officer, Office of Trade Adjustment Assistance.

[FR Doc. 2011-12399 Filed 5-19-11; 8:45 am]

BILLING CODE 4510-FN-P